DEPARTMENT OF HEALTH AND HUMAN SERVICES

Centers for Medicare & Medicaid Services

[CMS-9896-N3]

Membership List Update and New Meeting Dates for Ground Ambulance and Patient Billing (GAPB) Advisory Committee—May 2 and 3, 2023

AGENCY: Centers for Medicare & Medicaid Services (CMS), Department of Health and Human Services (HHS).

ACTION: Notice of meeting.

SUMMARY: This notice announces new dates for a public meeting of the Ground Ambulance and Patient Billing (GAPB) Advisory Committee on May 2 and 3, 2023. The GAPB Advisory Committee will make recommendations with respect to the disclosure of charges and fees for ground ambulance services and insurance coverage, consumer protection and enforcement authorities of the Departments of Labor, Health and Human Services, and the Treasury (the Departments) and relevant States, and the prevention of balance billing to consumers. The recommendations shall address options, best practices, and identified standards to prevent instances of balance billing; steps that can be taken by State legislatures, State insurance regulators, State attorneys general, and other State officials as appropriate, consistent with current legal authorities regarding consumer protection; and legislative options for Congress to prevent balance billing. This notice also updates the GAPB Advisory Committee membership roster.

DATES: Virtual Meeting Dates: The GAPB Advisory Committee will hold a virtual meeting on Tuesday, May 2, 2023 and Wednesday, May 3, 2023 from 9:30 a.m. to 5:30 p.m., Eastern Standard Time.

Registration Link: The virtual meeting will be open to the public and held via the Zoom webinar platform. Virtual attendance information will be provided upon registration. To register for this virtual meeting, please visit: https://priforum.zoomgov.com/webinar/register/WN_nSWKovtFQbqGY15qaF9CFw.

Attendance is open to the public subject to any technical or capacity limitations.

Deadline for Registration: All individuals who plan to attend the virtual public meeting must register to attend. The deadline to register for the public meeting is Monday, May 1, 2023. Interested parties are encouraged to register as far in advance of the meeting as possible. A detailed agenda and materials will be available prior to the meeting on the GAPB Advisory Committee website at: https://www.cms.gov/regulations-guidance/advisory-committees/advisory-committee-ground-ambulance-and-patient-billing-gapb.

A recording and a summary of the meeting will be made available on the GAPB Advisory Committee website within 30 calendar days after the meeting.

ADDRESSES: Virtual Meeting Location: The May 2 and 3, 2023 public meeting will be held virtually via Zoom only.

FOR FURTHER INFORMATION CONTACT: Shaheen Halim, CMS, by phone (410) 786-0641 or via email at gapbadvisorycommittee@cms.hhs.gov. Press inquiries may be submitted by phone at (202) 690-6145 or via email at press@cms.hhs.gov.

SUPPLEMENTARY INFORMATION:

I. Background

Section 117(a) of the No Surprises Act, enacted as part of the Consolidated Appropriations Act, 2021, div. BB, tit. I, Public Law 116-260 (Dec. 27, 2020), requires the Secretaries of Labor, HHS, and the Treasury to establish and convene an advisory committee for the purpose of reviewing options to improve the disclosure of charges and fees for ground ambulance services, better inform consumers of insurance options for such services, and protect consumers from balance billing. The GAPB Advisory Committee is governed by the provisions of the Federal Advisory Committee Act (FACA), Public Law 92-463 (Oct. 6, 1972), as amended, 5 U.S.C. App. 2.

II. Advisory Committee Membership Roster

On November 23, 2021, HHS published a Notice of Charter and Invitation for Member Nominations in the Federal Register for the GAPB Advisory Committee (86 FR 66565 through 66566). The Departments evaluated the nominees for alignment with the membership categories required under Section 117 of the No Surprises Act, their professional qualifications, recognition by the ground ambulance and emergency medical services community, years of relevant experience, experience with State or Federal committees on related issues, and expertise in subject matter to be addressed by the committee. The Departments also considered membership balance as required by the FACA, and as appropriate to address health equity issues pertaining to ground ambulance consumer balance billing, and ground ambulance services in underserved communities. On December 16, 2022, HHS published a Federal Register Notice Announcing the 17 Members of the GAPB Advisory Committee (87 FR 77122 through 77123). The Committee Roster has since been updated to include a new Designee to represent the Secretary of the Treasury as a Member of the Committee.

The 17 Members of the GAPB Advisory Committee are:

• Asbel Montes—Committee Chairperson; Additional Representative determined necessary and appropriate by the Secretaries.

• Ali Khawar—Secretary of Labor's Designee

• Carol Weiser—Secretary of the Treasury's Designee

• Rogelyn McLean—Secretary of Health and Human Services' Designee

• Gamunu Wijetunge—Department of Transportation—National Highway Traffic Safety Administration

• Suzanne Prentiss—State Insurance Regulators

• Adam Beck—Health Insurance Providers

• Patricia Kelmar—Consumer Advocacy Groups

• Gary Wingrove—Patient Advocacy Groups

• Ayobami Ogunsola—State and Local Governments

• Ritu Sahni—Physician specializing in emergency, trauma, cardiac, or stroke

• Peter Lawrence—State Emergency Medical Services Officials

• Shawn Baird—Emergency Medical Technicians, Paramedics, and Other Emergency Medical Services Personnel

• Edward Van Horne—Representative of Various Segments of the Ground Ambulance Industry

• Regina Godette-Crawford—Representative of Various Segments of the Ground Ambulance Industry

• Rhonda Holden—Representative of Various Segments of the Ground Ambulance Industry

• Loren Adler—Additional Representative determined necessary and appropriate by the Secretaries

The GAPB Advisory Committee Roster will also be posted on the GAPB Advisory Committee website at: https://www.cms.gov/regulations-guidance/advisory-committees/advisory-committee-ground-ambulance-and-patient-billing-gapb.

III. Meeting Agenda

The first public meeting of the GAPB Advisory Committee will occur on May 2 and 3, 2023. During this meeting, the Committee will gather background information on the No Surprises Act, the ground ambulance industry, insurance and billing practices, and consumer issues such as disclosure of fees and balance billing, prior to discussing potential subcommittees and focus areas. The agenda will cover the following topics:

• No Surprises Act overview

• Overview of the ground ambulance industry

• Insurance and ground ambulance payment systems

• Ground ambulance billing practices

• Disclosure of charges to consumers, separation of charges, and cost shifting

• Impact of balance billing on consumers and current consumer protections

• Balance billing prevention, including potential legislative and regulatory options

A more detailed agenda and materials will be made available approximately 2 days before the meeting on the GAPB Advisory Committee website (listed above).

Anticipated Dates and Agendas for Future GAPB Advisory Committee Meetings

CMS expects to convene future GAPB Advisory Committee Meetings on the following dates:

• August 16, 2023

• October 31 and November 1, 2023

Agendas and registration information for these future meetings will be published in the Federal Register and on the GAPB Advisory Committee website closer to the anticipated meeting dates, which are subject to change.

IV. Public Participation

The May 2 and May 3, 2023 meeting will be open to the public. Attendance may be limited due to virtual meeting constraints. Interested parties are encouraged to register as far in advance of the meeting as possible. To register for the meeting, please visit: https://www.cms.gov/regulations-guidance/advisory-committees/advisory-committee-ground-ambulance-and-patient-billing-gapb. CMS is committed to providing equal access to this meeting for all participants and to ensuring Section 508 compliance. Closed captioning will be provided. If you need alternative formats or services because of a disability, such as sign language interpreter or other ancillary aids, please contact the person listed in the FOR FURTHER INFORMATION CONTACT section.

V. Submitting Written Comments

Members of the public may submit written comments on subject matter under committee deliberation prior to the May 2 and May 3, 2023 meeting via email to gapbadvisorycommittee@cms.hhs.gov. Comments must be submitted via email no later than April 21, 2023. During the virtual meeting, members of the public will have the opportunity to submit comments through the chat feature of the Zoom webinar platform. These comments will be compiled for future consideration by the Committee.

V. Viewing Documents

You may view the documents discussed in this notice at https://www.cms.gov/regulations-guidance/advisory-committees/advisory-committee-ground-ambulance-and-patient-billing-gapb.

The Administrator of CMS, Chiquita Brooks-LaSure, having reviewed and approved this document, authorizes Evell J. Barco Holland, who is the Federal Register Liaison, to electronically sign this document for purposes of publication in the Federal Register.

Dated: April 11, 2023.
Evell J. Barco Holland,
Federal Register Liaison, Centers for Medicare & Medicaid Services.

[FR Doc. 2023-07910 Filed 4-13-23; 8:45 am]

BILLING CODE 4120-01-P